DEPARTMENT OF COMMERCE

International Trade Administration

[A-570-075]

Plastic Decorative Ribbon From the People's Republic of China: Postponement of Preliminary Determination in the Less-Than-Fair-Value Investigation

AGENCY: Enforcement and Compliance, International Trade Administration, Department of Commerce.

DATES: Applicable March 28, 2018.

FOR FURTHER INFORMATION CONTACT: David Lindgren at (202) 482-3870, AD/CVD Operations, Enforcement and Compliance, International Trade Administration, U.S. Department of Commerce, 1401 Constitution Avenue NW, Washington, DC 20230.

SUPPLEMENTARY INFORMATION:

Background

On January 16, 2018, the Department of Commerce (Commerce) initiated a less-than-fair-value (LTFV) investigation on imports of plastic decorative ribbon from the People's Republic of China.¹ Currently, the preliminary determination is due no later than June 8, 2018.²

¹ See Certain Plastic Decorative Ribbon From the People's Republic of China: Initiation of Less-Than-Fair-Value Investigation, 83 FR 3126 (January 23, 2018).

² Commerce has exercised its discretion to toll deadlines for the duration of the closure of the Federal Government from January 20 through 22, 2018. See Memorandum, “Deadlines Affected by the Shutdown of the Federal Government,” dated January 23, 2018 (Tolling Memorandum). Accordingly, all deadlines in this segment of the proceeding have been extended by 3 days.

Postponement of Preliminary Determination

Section 733(b)(1)(A) of the Tariff Act of 1930, as amended (the Act), requires Commerce to issue the preliminary determination in a LTFV investigation within 140 days after the date on which Commerce initiated the investigation. However, section 733(c)(1) of the Act permits Commerce to postpone the preliminary determination, at the request of the petitioner, to no later than 190 days after the date on which the administering authority initiates the investigation. Pursuant to section 733(c)(1)(A) of the Act and 19 CFR 351.205(e), the petitioner must submit a request to postpone 25 days or more before the scheduled date of the preliminary determination, and state the request for the postponement.

On February 27, 2018, Berwick Offray, LLC (the petitioner), submitted a timely request pursuant to 19 CFR 351.205(b)(2) and (e) to fully postpone the preliminary determination from 140 to 190 days.³ The petitioner stated that the purpose of its request is to provide Commerce with adequate time to solicit information from the respondents and to allow Commerce sufficient time to analyze respondents' questionnaire responses.⁴

³ See Petitioner's Letter, “Certain Plastic Decorative Ribbon from the People's Republic of China: Request to Fully Extend Preliminary Determination,” dated February 27, 2018.

⁴ Id.

In accordance with 19 CFR 351.205(e), the reason for requesting a postponement of the preliminary determination and the record do not present any compelling reasons to deny the request. Therefore, in accordance with section 733(c)(1)(A) of the Act and 19 CFR 351.205(e), we are postponing the preliminary determination in this LTFV investigation from 140 days after the date of initiation to 190 days after initation. Additionally, Commerce exercised its discretion to toll deadlines affected by the closure of the Federal Government from January 20 through 22, 2018.⁵ Accordingly, Commerce is postponing the deadline for the preliminary determination to July 30, 2018.⁶ Pursuant to section 735(a)(1) of the Act and 19 CFR 351.210(b)(1), the deadline for the final determination of this investigation will continue to be 75 days after the date of the preliminary determination, unless postponed.

⁵ See Tolling Memorandum.

⁶ Note that the revised deadline reflects a full postponement to 190 days after the date on which this investigation was initiated, in addition to a 3-day extension due to closure of the Federal Government.

This notice is issued and published pursuant to section 733(c)(2) of the Act and 19 CFR 351.205(f)(1).

Dated: March 20, 2018.
Gary Taverman,
Deputy Assistant Secretary for Antidumping and Countervailing Duty Operations, performing the non-exclusive functions and duties of the Assistant Secretary for Enforcement and Compliance.

[FR Doc. 2018-06151 Filed 3-27-18; 8:45 am]

BILLING CODE 3510-DS-P